DEPARTMENT OF AGRICULTURE

Farm Service Agency

Request for Revision and Extension of a Currently Approved Information Collection; Request for Aerial Photography

AGENCY: Farm Service Agency, USDA.

ACTION: Notice and request for comments.

SUMMARY: In accordance with the Paperwork Reduction Act of 1995, this notice announces the intention of the Farm Service Agency (FSA) to request a revision and extension of an information collection currently used in support of the FSA Aerial Photography Program. The FSA Aerial Photography Field Office (APFO) uses the information from this form to collect the customer and photography information needed to produce and ship the various products ordered.

DATES: Comments on this notice must be received on or before November 30, 2007 to be assured consideration.

Additional Information or Comments: Contact David Parry, Supervisor, USDA, Farm Service Agency, APFO Customer Service Section, 2222 West 2300 South Salt Lake City, Utah 84119-2020, (801) 975-3503; e-mail david.parry@slc.usda.gov.

SUPPLEMENTARY INFORMATION: Title: Request for Aerial Photography.

OMB Control Number: 0560-0176.

Expiration Date: February 29, 2008.

Type of Request: Revision and Extension of Currently Approved Information Collection.

Abstract: The information collected under OMB Control Number 0560-0176, as identified above, is needed to enable the Department of Agriculture to effectively administrate the Aerial Photography Program. APFO has the authority to coordinate aerial photography, remote sensing programs and the aerial photography flying contract programs. The digital and film imagery secured by FSA is public domain and reproductions are available at cost to any customer with a need. All receipts from the sale of aerial photography products and services are retained by FSA. The FSA-441, Request for Aerial Photography, is the form FSA supplies to its customers for placing an order for aerial imagery products and services.

Estimate of Burden: Public reporting burden for this information collection is estimated to average 3.3 hours per response.

Respondents: Farmers, Ranchers and other USDA customers who wish to purchase imagery products and services.

Estimated Number of Respondents: 12,000.

Estimated Number of Responses per Respondent: 1.

Estimated Total Annual Burden on Respondents: 8,000 hours.

Proposed topics for comment include: (a) Whether the proposed collection of information is necessary for the proper performance of the functions of the agency, including whether the information will have practical utility; (b) the accuracy of the agency's estimate of the burden of the proposed collection of information, including the validity of the methodology and assumptions used; (c) ways to enhance the quality, utility and clarity of the information from those who are to respond, including the use of appropriate automated, electronic, mechanical, or other technological collection techniques or other forms of information technology. Comments should be sent to the Desk Officer for Agriculture, Office of Information and Regulatory Affairs, Office of Management and Budget, Washington, DC 20503, and to David Parry at the address listed above.

All comments will become a matter of public record.

Signed at Washington, DC, on September 20, 2007.
Teresa C. Lasseter,
Administrator, Farm Service Agency.

[FR Doc. E7-19262 Filed 9-28-07; 8:45 am]

BILLING CODE 3410-05-P